ENVIRONMENTAL PROTECTION AGENCY

40 CFR Part 63

[EPA-HQ-OAR-2006-0406, FRL-8684-8]

RIN 2060-AM74

National Emission Standards for Hazardous Air Pollutants for Source Category: Gasoline Dispensing Facilities

AGENCY: Environmental Protection Agency (EPA).

ACTION: Direct final rule.

SUMMARY: EPA is taking direct final action on certain amendments to the National Emission Standards for Hazardous Air Pollutants for Source Category: Gasoline Dispensing Facilities, which EPA promulgated on January 10, 2008, and amended on March 7, 2008. The January 10, 2008 rule established national emission standards for hazardous air pollutants for the facilities in the gasoline distribution (Stage I) area source category. This action only affects area source gasoline dispensing facilities with a monthly throughput of 100,000 gallons of gasoline or more. In this action, EPA is amending the pressure and vacuum vent valve cracking pressure and leak rate requirements for vapor balance systems used to control emissions from gasoline storage tanks at gasoline dispensing facilities. Newly constructed or reconstructed gasoline dispensing facilities must comply with the requirements of these amendments by the effective date of the amendments, or upon start-up, whichever is later. We are not modifying the compliance date for existing sources with a monthly throughput of 100,000 gallons of gasoline or more.

DATES: This direct final rule is effective on September 23, 2008 without further notice, unless EPA receives adverse comment by August 11, 2008. If we receive adverse comment, we will publish a timely withdrawal in the Federal Register informing the public that this rule, or the relevant section of this rule, will not take effect.

ADDRESSES: Submit your comments, identified by Docket ID No. EPA-HQ-OAR-2006-0406, by one of the following methods:

• http://www.regulations.gov. Follow the online instructions for submitting comments.

• E-mail: a-and-r-Docket@epa.gov.

• Fax: (202) 566-9744.

• Mail: Air and Radiation Docket, Environmental Protection Agency, Mailcode: 2822T, 1200 Pennsylvania Ave., NW., Washington, DC 20460. Please include a total of two copies.

• Hand Delivery: In person or by courier, deliver your comments to: Air and Radiation Docket, Public Reading Room, EPA West Building, Room 3334, 1301 Constitution Ave., NW., Washington, DC 20004. Such deliveries are only accepted during the Docket's normal hours of operation, and special arrangements should be made for deliveries of boxed information. Please include a total of two copies. We request that a separate copy also be sent to the contact persons listed below (see FOR FURTHER INFORMATION CONTACT).

Instructions: Direct your comments to Docket ID No. EPA-HQ-OAR-2006-0406. EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov docket index. Although listed in the index, some information is not publicly available, e.g., CBI or other information whose disclosure is restricted by statute. Certain other material, such as copyrighted material, will be publicly available only in hard copy. Publicly available docket materials are available either electronically in http://www.regulations.gov or in hard copy at the Air and Radiation Docket, EPA West Building, Room 3334, 1301 Constitution Ave., NW., Washington, DC. The Public Reading Room is open from 8:30 a.m. to 4:30 p.m., Monday through Friday, excluding legal holidays. The telephone number for the Public Reading Room is (202) 566-1744, and the telephone number for the Air and Radiation Docket is (202) 566-1742.

FOR FURTHER INFORMATION CONTACT: General and Technical Information: Mr. Stephen Shedd, Office of Air Quality Planning and Standards, Sector Policies and Programs Division, Coatings and Chemicals Group (E143-01), EPA, Research Triangle Park, NC 27711, telephone: (919) 541-5397, facsimile number: (919) 685-3195, e-mail address: shedd.steve@epa.gov.

Compliance Information: Ms. Maria Malave, Office of Compliance, Air Compliance Branch (2223A), EPA, Ariel Rios Building, 1200 Pennsylvania Avenue, NW., Washington, DC 20460, telephone: (202) 564-7027, facsimile number: (202) 564-0050, e-mail address: malave.maria@epa.gov.

SUPPLEMENTARY INFORMATION: EPA is publishing this rule without prior proposal because we view this as a noncontroversial action and anticipate no adverse comment. The amendments being implemented revise certain technical requirements in 40 CFR part 63, Subpart CCCCCC. However, in the “Proposed Rules” section of this Federal Register, we are publishing a separate document that will serve as the proposed rule for these amendments if adverse comments are received on this direct final rule. If EPA receives adverse comment on all or a distinct portion of this rule, we will publish a timely withdrawal in the Federal Register informing the public that some of or this entire direct final rule will not take effect. The rule provisions that are not withdrawn will become effective on the date set out above, notwithstanding adverse comment on any other provision, unless we determine that it would not be appropriate to promulgate those provisions due to their being affected by the provision for which we receive adverse comments. We would address all public comments in any subsequent final rule based on the proposed rule. We will not institute a second comment period on this action. Any parties interested in commenting must do so at this time. For further information about commenting on this rule, see the ADDRESSES section of this document.

Submitting CBI. Do not submit this information to EPA through http://www.regulations.gov or e-mail. Clearly mark the part or all of the information that you claim to be CBI. For CBI information on a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

Regulated Entities. Categories and entities potentially regulated by this action include:

Category | NAICS * | Examples of regulated entities
Industry | 447110 | Operations at area source gasoline dispensing facilities.
| 447190 |
Federal/State/local/tribal governments |  |
* North American Industry Classification System.

This table is not intended to be exhaustive, but rather provides a guide for readers regarding entities likely to be regulated by this final rule. To determine whether your facility is regulated by this action, you should examine the applicability criteria in 40 CFR part 63, subpart CCCCCC. If you have any questions regarding the applicability of this final rule to a particular entity, consult either the air permit authority for the entity or your EPA regional representative as listed in 40 CFR 63.13.

Worldwide Web (WWW). In addition to being available in the docket, an electronic copy of this final rule is also available on the WWW through the Technology Transfer Network (TTN). Following signature, a copy of this final rule will be posted on the TTN's policy and guidance page for newly proposed or promulgated rules at the following address: http://www.epa.gov/ttn/oarpg. The TTN provides information and technology exchange in various areas of air pollution control.

Outline: The information presented in this preamble is organized as follows:

I. Background

II. Summary of These Final Rule Amendments

III. Rationale For These Final Rule Amendments

IV. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health Risks and Safety Risks

H. Executive Order 13211: Actions Concerning Regulations That Significantly Affect Energy Supply, Distribution, or Use

I. National Technology Transfer and Advancement Act

J. Executive Order 12898: Federal Actions To Address Environmental Justice in Minority Populations and Low-Income Populations

K. Congressional Review Act

I. Background

On January 10, 2008 (73 FR 1916), EPA issued a final rule that established national emission standards for hazardous air pollutants (NESHAP) for the facilities in the gasoline distribution (Stage I ¹) area source category. These facilities include bulk distribution facilities, i.e., gasoline distribution bulk terminals, bulk plants, and pipeline facilities, and gasoline dispensing facilities (GDF), as defined in 40 CFR 63.11100 and 63.11132. EPA subsequently identified certain cross-referencing errors in the final rule. On March 7, 2008 (73 FR 12275), EPA promulgated a technical corrections notice and corrected those errors. As explained below, this action amends certain requirements of the January 10, 2008 final rule that apply to GDF with a monthly throughput of 100,000 gallons or more.

¹ Stage 1 refers to here, the entire gasoline distribution system that includes all facilities from and including the refinery to the end user, except for vehicle refueling (so called Stage II).

II. Summary of These Final Rule Amendments

The January 10, 2008, final rule requires installation of vapor balance systems between the delivery tank truck and the storage tank at GDF with a monthly throughput of 100,000 gallons of gasoline or more. Facilities can satisfy the vapor balance system requirements by complying with the listed applicability criteria and management practices in Table 1 to subpart CCCCCC of 40 CFR part 63.² Entry 1.(g) in Table 1 to subpart CCCCCC requires the installation of pressure/vacuum (PV) vent valves with specific cracking pressure and leak rate settings on the storage tank vent pipes at affected GDF. As explained below, PV vent valves are integral to the functionality of the vapor balance system; however, after promulgation, we discovered that PV vent valves with the specific pressure, deviations, and leak rate settings required in the January 10, 2008, final rule are no longer manufactured. These final rule amendments change those specific pressure and leak rate settings for PV vent valves so that GDFs may obtain and install PV vent valves and thus operate a functioning vapor balance system. The amended PV vent valve settings are:

² Subpart CCCCCC also provides two additional methods for complying with the vapor balancing requirements. See §§ 63.11118(b)(2) and 63.11120(b).

“A positive pressure setting of 2.5 to 6.0 inches of water and a negative pressure setting of 6.0 to 10.0 inches of water. The total leak rate of all PV vent valves at an affected facility, including connections, shall not exceed 0.17 cubic foot per hour at a pressure of 2.0 inches of water and 0.63 cubic foot per hour at a vacuum of 4 inches of water.”

New or reconstructed affected GDF, as defined in § 63.11112 of Subpart CCCCCC, that have a monthly throughput of 100,000 gallons of gasoline or more must comply with the revised vapor balance system requirements, set forth in Table 1 of these amendments, by September 23, 2008, or upon startup, whichever is later. The compliance date for existing GDF to install vapor balance systems with a monthly throughput of 100,000 gallons of gasoline or more is January 10, 2011, which is the same date specified in the January 10, 2008, final rule. We are not modifying this date because existing sources will have sufficient time to comply with the revised vapor balance system requirements in revised Table 1 by that date. The compliance dates for all other requirements in the rule remain as promulgated in the January 10, 2008, final rule, as those requirements are not the subject of this direct final rule.

III. Rationale for These Final Rule Amendments

Following issuance of the January 10, 2008, final rule, EPA received several inquiries from stakeholders and regulatory agencies concerning the PV vent valve requirements for vapor balance systems. A vapor balance system is a combination of equipment (connectors, piping, storage tank, hoses, PV vent valves, gaskets, and the tank truck). These equipment, taken together, work as a system to route the vapors displaced from the storage tank back into the delivery tank truck. If the PV vent valves, which are an integral part of the vapor balance system, are not installed, the vapors would escape into the atmosphere through the storage tank vent instead of being routed back into the delivery tank truck and the source would not be in compliance with the requirement to have a functioning vapor balance system.

Those who contacted EPA concerning the PV vent valve requirements reported that the PV vent valve specifications in the final rule are not commercially available because manufacturers are no longer making PV vent valves with these specifications; therefore, facilities cannot currently comply with the requirements in the January 10, 2008, final rule. In entry 1.(g) of Table 1 to Subpart CCCCCC of Part 63, “Applicability Criteria and Management Practices for Gasoline Dispensing Facilities With Monthly Throughput of 100,000 Gallons of Gasoline or More,” we specified:

(g) Pressure/vacuum vent valves shall be installed on the storage tank vent pipes. For systems where vapors from vehicle refueling operations are not recovered, the positive cracking pressure shall be 13.8 inches of water and the negative cracking pressure shall be 6.9 inches of water. For systems where vapors from vehicle refueling operations are recovered (Stage II controls), the positive cracking pressure shall be 3 inches of water and the negative cracking pressure shall be 8 inches of water. Deviations of within ±0.5 inches of the specified positive cracking pressures and ±2.0 inches of the negative pressure are acceptable. The leak rates for pressure/vacuum valves, including connections, shall be less than or equal to 0.17 cubic foot per hour at a pressure of 2.0 inches of water and 0.21 cubic foot per hour at a vacuum of 4 inches of water.

The first set of cracking pressure settings (positive and negative cracking pressure of 13.8 and 6.9 inches of water, respectively) are from guidance provided for vapor balancing systems installed in the 1970s. The second set of cracking pressure settings (positive and negative cracking pressure of 3 and 8 inches of water, respectively), and deviation and leak rate settings are based on the PV vent valve cracking pressure setting requirements in the 2005 California Air Resources Board (CARB) Vapor Recovery Certification Procedure (CP-201). All of these PV vent valve settings were in the draft rule in the docket when we proposed the rules for this source category on November 9, 2006; however, we did not receive any public comments on this portion of the draft rule.

After the final rule was promulgated, interested stakeholders contacted EPA and stated that the PV vent valve settings specified in the final rule are not being used on GDF storage tanks because manufacturers are not making PV vent valves with these settings. In response to these inquiries, EPA contacted the two major PV vent valve manufacturers and received confirmation that neither manufacturer offers a PV vent valve with the settings specified in the January 10, 2008, final rule nor do they recommend those settings for any vapor balance systems, with or without vehicle refueling vapor recovery systems.

EPA also contacted CARB representatives to discuss the issue of the PV vent valve settings. The CARB representatives stated that the PV vent valve settings in CP-201 apply to vapor balance systems, Stage I only and Stage I with Stage II.³ With regard to the PV vent valve cracking pressure settings, the CARB representatives explained that CP-201 was amended on May 25, 2006. The 2006 CP-201 specifies acceptable ranges for the positive (2.5 to 6.0 inches of water) and negative (6.0 to 10.0 inches of water) cracking pressures, rather than the single values with allowable deviations, which was the format used in the January 10, 2008, EPA final rule. The CARB representatives also informed EPA that the allowable PV vent valve leak rates in CP-201 were also amended on May 25, 2006. The 2006 CP-201 new allowable leak rates are less than or equal to 0.17 cubic foot per hour at a pressure of 2.0 inches of water and 0.63 cubic foot per hour at a vacuum of 4.0 inches of water. According to CARB representatives, CARB's certification testing (using test procedure TP-201.1) demonstrates that Stage I and Stage II systems, alone or together, achieve CARB's 98-percent efficiency requirement using the 2006 CP-201 PV vent valve settings.

³ A vapor balance system at GDF is divided into two types. Vapor balancing between the delivery tank truck and the storage tank is referred to as Stage I or Phase I vapor balance systems. Vapor balancing between the storage tank and the vehicle being refueled is referred to as Stage II or Phase II vapor balance systems. Among other things, the January 10, 2008 final rule requires installation of Stage I vapor balance systems at GDF with monthly throughput of 100,000 gallons of gasoline or more. Stage II controls are not required by subpart CCCCCC.

In evaluating how to revise the PV vent valve settings in Table 1, we considered if other types of vapor balance systems using the 2006 CP-201 PV vent valve settings provide emission controls at least equivalent to the performance levels of vapor balance systems that follow the requirements in Table 1 of the January 10, 2008, final rule. Specifically, under the January 10, 2008, final rule, facilities using vapor balance systems other than those meeting the management practices specified in Table 1 to subpart CCCCCC must demonstrate equivalency using the procedures in 40 CFR 63.11120(b)(1) through (3). The procedure in § 63.11120(b)(1) requires that vapor balance systems be tested using CARB test procedure TP-201.1 to demonstrate that the system achieves at least a level of 95 percent control. As noted above, CARB's amended 2006 CP-201 PV vent valve settings provide a level of emissions control that is at least equivalent to the level required by § 63.11120(b)(1).

Based on the above information and our own analysis, we agree with the stakeholders who contacted EPA following issuance of the final rule in January 2008. Specifically, we agree that PV vent valves with the settings specified in the January 10, 2008, final rule are not currently available for purchase from manufacturers so that GDFs choosing to comply with the vapor balance system requirement in Table 1 of Subpart CCCCCC cannot currently comply with this requirement. Therefore, given the equal or better control from the amended 2006 CARB CP-201 settings, and the fact that PV vent valves meeting these specifications are currently available, which is not the case for the settings specified in the January 10, 2008, final rule, EPA is taking this final action and adopting the following new requirements for PV vent valve specifications in entry 1.(g) of Table 1 to subpart CCCCCC of 40 CFR part 63:

(g) Pressure/vacuum (PV) vent valves shall be installed on the storage tank vent pipes. The pressure specifications for PV vent valves shall be: a positive pressure setting of 2.5 to 6.0 inches of water and a negative pressure setting of 6.0 to 10.0 inches of water. The total leak rate of all PV vent valves at an affected facility, including connections, shall not exceed 0.17 cubic foot per hour at a pressure of 2.0 inches of water and 0.63 cubic foot per hour at a vacuum of 4 inches of water.

Because we are modifying the PV vent valve setting requirements of Table 1, it is appropriate to address the date by which new and existing sources must comply with these new requirements. As explained above, the PV vent valve settings are an integral part of enabling the vapor balance system to function properly. Without the PV vent valves, the vapors escape into the atmosphere rather than being rerouted into the tank truck. As also explained above, the PV vent valve settings in the January 10, 2008, final rule are not available so owners and operators of new and reconstructed GDF cannot currently comply with the vapor balance system requirements in subpart CCCCCC.

Owners or operators of new or reconstructed GDF, as defined in § 63.11112 of Subpart CCCCCC, must comply with the new vapor balance system requirements specified in Table 1 of these amendments by September 23, 2008, or upon startup, whichever is later. Because these new PV vent valve settings are off-the-shelf items that are easy to install, and because of the 3-year compliance period for existing sources specified in the January 10, 2008, final rule, we have not extended the compliance date of January 10, 2011, for existing GDF. We believe that existing GDF can meet the new requirements in Table 1 of this direct final rule by January 10, 2011, which is the compliance date specified in the January 10, 2008, rule.

IV. Statutory and Executive Order Reviews

A. Executive Order 12866: Regulatory Planning and Review

This action is not a “significant regulatory action” under the terms of Executive Order 12866 (58 FR 51735, October 4, 1993) and is, therefore, not subject to review under the Executive Order.

B. Paperwork Reduction Act

This action does not impose any new information collection burden. The final amendments clarify, but do not add requirements increasing the collection burden. The information collection requirements contained in the existing regulations at 40 CFR part 63, subpart CCCCCC have been sent to the Office of Budget and Management (OMB) for approval under the provisions of the Paperwork Reduction Act, 44 U.S.C. 3501, et seq. OMB will assign an OMB control number when the information collection requirements are approved. The OMB control numbers for EPA regulations in 40 CFR are listed in 40 CFR Part 9.

C. Regulatory Flexibility Act

The Regulatory Flexibility Act (RFA) generally requires an agency to prepare a regulatory flexibility analysis of any rule subject to notice and comment rulemaking requirements under the Administrative Procedure Act or any other statute unless the Agency certifies that the rule will not have a significant economic impact on a substantial number of small entities. Small entities include small businesses, small organizations, and small governmental jurisdictions.

For purposes of assessing the impacts of this rule on small entities, a small entity is defined as: (1) A small business whose parent company has less than $25 million in revenue (NAICS 447110, Gasoline Stations with Convenience Stores), and less than $8.0 million in revenue (NAICS 447190, Other Gasoline Stations), and any other small business as defined by the Small Business Administration's (SBA) regulations at 13 CFR 121.201; (2) a small governmental jurisdiction that is a government of a city, county, town, school district or special district with a population of less than 50,000; or (3) a small organization that is any not-for-profit enterprise which is independently owned and operated and is not dominant in its field.

After considering the economic impacts of this final rule on small entities, I certify that this action will not have a significant economic impact on a substantial number of small entities. This final rule will not impose any new requirement on small entities since we are replacing one specification for PV vent valves with another readily available specification for PV vent valves.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires us to identify and consider a reasonable number of regulatory alternatives and adopt the least costly, most cost-effective, or least burdensome alternative that achieves the objectives of the rule. The provisions of section 205 do not apply when they are inconsistent with applicable law. Moreover, section 205 allows us to adopt an alternative other than the least costly, most cost-effective, or least burdensome alternative if the Administrator publishes with the final rule an explanation why that alternative was not adopted. Before we establish any regulatory requirements that may significantly or uniquely affect small governments, including tribal governments, we must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

This final rule contains no Federal mandates (under the regulatory provisions of Title II of the UMRA) for State, local, or tribal governments or the private sector. These final rule amendments correct a technical error in the rule text for a rule EPA determined not to include a Federal mandate that may result in an estimated cost of $100 million or more (73 FR 1916, January 10, 2008). These amendments do not change the level or cost of the standard. Thus, these final rule amendments are not subject to the requirements of section 202 and 205 of the UMRA. EPA has determined that this rule contains no regulatory requirement that might significantly or uniquely affect small governments. These final rule amendments update PV vent valve settings in the vapor balance system requirements in the rule text; thus, the amendments should not affect small governments.

E. Executive Order 13132: Federalism

Executive Order 13132, entitled “Federalism” (64 FR 43255, August 10, 1999) requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. These final rule amendments update the PV vent valve settings in the vapor balance system requirements in the rule text. These amendments do not modify existing or create new responsibilities among EPA Regional Offices, States, or local enforcement agencies. Thus, Executive Order 13132 does not apply to this rule.

F. Executive Order 13175: Consultation and Coordination With Indian Tribal Governments

Executive Order 13175, entitled “Consultation and Coordination With Indian Tribal Governments” (65 FR 67249, November 9, 2000), requires EPA to develop an accountable process to ensure “meaningful and timely input by tribal officials in the development of regulatory policies that have tribal implications.” This final rule does not have tribal implications, as specified in Executive Order 13175. It will not have substantial direct effects on tribal governments, on the relationship between the Federal government and Indian tribes, or on the distribution of power and responsibilities between the Federal government and Indian tribes. Thus, Executive Order 13175 does not apply to this rule.

G. Executive Order 13045: Protection of Children From Environmental Health Risks and Safety Risks

EPA interprets Executive Order 13045 (62 FR 19885, April 23, 1997) as applying to those regulatory actions that concern health or safety risks, such that the analysis required under section 5-501 of the Executive Order has the potential to influence the regulation. This action is not subject to Executive Order 13045 because it is based solely on technology performance.

H. Executive Order 13211: Actions Concerning Regulations That Significantly Affect Energy Supply, Distribution, or Use

This rule is not subject to Executive Order 13211, “Actions Concerning Regulations That Significantly Affect Energy Supply, Distribution, or Use” (66 FR 28355, May 22, 2001) because it is not a significant regulatory action under Executive Order 12866.

I. National Technology Transfer and Advancement Act

Section 12(d) of the National Technology Transfer and Advancement Act of 1995 (NTTAA), Public Law 104-113, 12(d) (15 U.S.C. 272 note) directs EPA to use voluntary consensus standards (VCS) in its regulatory activities unless to do so would be inconsistent with applicable law or otherwise impractical. VCS are technical standards (e.g., materials specifications, test methods, sampling procedures, and business practices) that are developed or adopted by VCS bodies. NTTAA directs EPA to provide Congress, through OMB, explanations when the Agency decides not to use available and applicable VCS. This action does not involve technical standards. Therefore, EPA did not consider the use of any voluntary consensus standard.

J. Executive Order 12898: Federal Actions To Address Environmental Justice in Minority Populations and Low-Income Populations

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA has determined that this final rule will not have disproportionately high and adverse human health or environmental effects on minority or low-income populations because it does not affect the level of protection provided to human health or the environment. These final rule amendments do not relax the control measures on sources regulated by the rule and, therefore, will not cause emissions increases from these sources.

K. Congressional Review Act

The Congressional Review Act, 5 U.S.C. 801, et seq., as added by the Small Business Regulatory Enforcement Fairness Act of 1996, generally provides that before a rule may take effect, the agency promulgating the rule must submit a rule report, which includes a copy of the rule, to each House of the Congress and to the Comptroller General of the United States. EPA will submit a report containing the final rule amendments and other required information to the United States Senate, the United States House of Representatives, and the Comptroller General of the United States prior to publication of the final rule amendments in the Federal Register. A major rule cannot take effect until 60 days after it is published in the Federal Register. This action is not a “major rule” as defined by 5 U.S.C. 804(2). These final rule amendments will be effective on September 23, 2008.

List of Subjects in 40 CFR Part 63

Environmental protection, Administrative practice and procedure, Air pollution control, Intergovernmental relations, Reporting and recordkeeping requirements.

Dated: June 19, 2008.
Stephen L. Johnson,
Administrator.

For the reasons set out in the preamble, title 40, chapter I, part 63 of the Code of Federal Regulations is amended as follows:

PART 63—[AMENDED]

1. The authority citation for part 63 continues to read as follows:

Authority: 42 U.S.C. 7401, et seq.

Subpart CCCCCC—[Amended]

2. Section 63.11113 is amended by revising paragraph (a) introductory text and by adding paragraph (d) to read as follows:

§ 63.11113 When do I have to comply with this subpart?

(a) If you have a new or reconstructed affected source, you must comply with this subpart according to paragraphs (a)(1) and (2) of this section, except as specified in paragraph (d) of this section.

* * * * *

(d) If you have a new or reconstructed affected source and you are complying with Table 1 to this subpart, you must comply according to paragraphs (d)(1) and (2) of this section.

(1) If you start up your affected source from November 9, 2006 to September 23, 2008, you must comply no later than September 23, 2008.

(2) If you start up your affected source after September 23, 2008, you must comply upon startup of your affected source.

* * * * *

3. Table 1 to Subpart CCCCCC of Part 63 is amended by revising entry 1.(g) to read as follows:

Table 1 to Subpart CCCCCC of Part 63.—Applicability Criteria and Management Practices for Gasoline Dispensing Facilities With Monthly Throughput of 100,000 Gallons of Gasoline or More
If you own or operate . . . | Then you must . . .
| * * * * * * *
1. A new, reconstructed, or existing GDF subject to § 63.11118 | (g) Pressure/vacuum (PV) vent valves shall be installed on the storage tank vent pipes. The pressure specifications for PV vent valves shall be: a positive pressure setting of 2.5 to 6.0 inches of water and a negative pressure setting of 6.0 to 10.0 inches of water. The total leak rate of all PV vent valves at an affected facility, including connections, shall not exceed 0.17 cubic foot per hour at a pressure of 2.0 inches of water and 0.63 cubic foot per hour at a vacuum of 4 inches of water.
| * * * * *
* * * * * * *

[FR Doc. E8-14377 Filed 6-24-08; 8:45 am]

BILLING CODE 6560-50-P